DEPARTMENT OF THE INTERIOR

Bureau of Land Management

[CA-610-1610-DP]

Notice of Availability for the Draft West Mojave Plan (DWMP) and Draft Environmental Impact Statement (DEIS)

AGENCY: California Desert District (California), Bureau of Land Management.

ACTION: Notice of availability of the Draft West Mojave Plan (DWMP) and Draft Environmental Impact Statement (DEIS).

SUMMARY: In accordance with the Federal Land Policy and Management Act (FLPMA) and the National Environmental Policy Act (NEPA), this document provides notice that the Bureau of Land Management (BLM) has prepared a Draft West Mojave Plan (DWMP) and Draft Environmental Impact Statement (DEIS) for public review and comment. This planning activity encompasses approximately 3.3 million acres of public land managed by the BLM's California Desert District, located in Inyo, Kern, Los Angeles and San Bernardino Counties in southern California.

The Draft West Mojave Plan was prepared in collaboration with state and local governments, which takes into account local, regional and national needs and concerns.

The conservation strategy to be implemented on public lands include measures that would be compatible with the development of a habitat conservation plan on 3 million acres of private and local government lands within the planning area.

This notice initiates the public review process on the DWMP and DEIS. The public is invited to review and comment on the range and adequacy of the draft alternatives and associated environmental effects.

DATES: The comment period will end 90 days following publication of the Environmental Protection Agency's Notice of Availability of the DWMP and DEIS in the Federal Register. Comments on the Draft RMP/EIS should be received on or before the end of the comment period at the address listed below.

Public Meetings: Public meetings will be held during the comment period. In order to ensure local community participation and input, public meetings will be held at selected locations in Inyo, Kern, Los Angeles and San Bernardino Counties, California. Early participation by all those interested is encouraged. Meeting locations and dates will be announced at least 15 days in advance through local media and online at http://www.ca.blm.gov/news/meetings.html. All individuals, organizations, agencies, and tribes with a known interest in this planning effort have been sent a copy of the document for review.

Written comments will be accepted throughout the planning process at the address shown below. For comments to be most helpful they should relate to specific concerns or conflicts that are within the legal responsibilities of the BLM and are feasible to be resolved in this planning process.

Written comments should be sent to the Bureau of Land Management, California Desert District Office, Attn. West Mojave Plan Staff, 22835 Calle San Juan De Los Lagos, Moreno Valley, CA 92553.

Documents pertinent to this proposal may be examined at the BLM California Desert District Office, the BLM Ridgecrest Field Office, 300 South Richmond Road, Ridgecrest, California 93555, and the BLM Barstow Field Office, 2601 Barstow Road, Barstow, California 92311 during regular business hours from 7:45 a.m. to 4 p.m., Monday through Friday, except holidays. The draft documents also are available online at http://www.ca.blm.gov/cdd/wemo.html. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact William Haigh, Project Manager, at (760) 252-6080 (Phone), e-mail at whaigh@ca.blm.gov.

SUPPLEMENTARY INFORMATION: The DWMP addresses the management of 3.3 million acres of public lands administered by the BLM in eastern Kern County, southern Inyo County, northern Los Angeles County and western San Bernardino County, all of which are within the State of California. The BLM's Ridgecrest and Barstow Field Offices administer most of these public lands. A small amount of acreage administered by the BLM's Needles and Palm Springs Field Offices is also affected. All public lands are within the California Desert Conservation Area, and all lie within the jurisdiction of the BLM's California Desert District.

The DWMP is being prepared collaboratively with local jurisdictions, state and other federal agencies. The purpose of the West Mojave Plan is to develop conservation strategies for over 100 listed and sensitive plant and animal species that are found within the western Mojave Desert, including the threatened desert tortoise and the California-listed Mojave Ground Squirrel, and to simplify procedures for complying with the California and federal Endangered Species Acts. Other issues being addressed include the development of a motorized vehicle access network for public lands in the region, and effects of the program on regional economics, growth-inducing impacts, livestock grazing, mining, cultural resources and recreation. The Plan would be implemented on public lands through amendments to BLM's California Desert Conservation Area Plan.

The DEIS considers and analyzes seven (7) alternatives (A-G), including the No Action alternative, with Alternative A identified as the agency's Preferred Alternative. These alternatives have been developed based on extensive public input following an initial round of scoping meetings in January 1992, extensive biological and field survey work in the late 1990's, nearly 50 “task group” attended by representatives of the participating agencies and jurisdictions and the general public between December 1999 and May 2002, numerous other public meetings, and a final round of scoping meetings in June and July 2002. The proposed action and alternatives were based on comments and suggestions offered during those meetings.

The alternatives provide for a wide array of land use allocations and management direction. The alternatives provide for variable levels of commodity production, resource protection, special areas, and authorized land and resource uses, including endangered species conservation, motorized vehicle access to public lands, livestock grazing and various forms of recreation. Any necessary amendments to the BLM's CDCA Plan will be addressed. A final Environmental Impact Statement and proposed West Mojave Plan are expected to be available for public review in October 2003.

Dated: February 14, 2003.
Linda Hansen,
District Manager, California Desert District.

[FR Doc. 03-14910 Filed 6-12-03; 8:45 am]

BILLING CODE 4310-40-P